DEPARTMENT OF TRANSPORTATION

Federal Aviation Administration

14 CFR Part 71

[Docket No. FAA-2021-0276; Airspace Docket No. 21-ACE-1]

RIN 2120-AA66

Amendment, Establishment, and Revocation of Multiple Air Traffic Service (ATS) Routes in the Vicinity of Neosho, MO

AGENCY: Federal Aviation Administration (FAA), DOT.

ACTION: Final rule.

SUMMARY: This action amends Jet Route J-181 and VHF Omnidirectional Range (VOR) Federal airways V-13, V-14, V-15, and V-307; establishes Area Navigation (RNAV) routes T-411 and T-413; and removes VOR Federal airway V-506. The FAA is taking this action due to the planned decommissioning of the VOR portion of the Neosho, MO, VOR/Distance Measuring Equipment (VOR/DME) navigational aid (NAVAID). The Neosho VOR is being decommissioned in support of the FAA's VOR Minimum Operational Network (MON) program.

DATES: Effective date 0901 UTC, January 27, 2022. The Director of the Federal Register approves this incorporation by reference action under 1 CFR part 51, subject to the annual revision of FAA Order 7400.11 and publication of conforming amendments.

ADDRESSES: FAA Order JO 7400.11F, Airspace Designations and Reporting Points, and subsequent amendments can be viewed online at https://www.faa.gov/air_traffic/publications/. For further information, you can contact the Rules and Regulations Group, Federal Aviation Administration, 800 Independence Avenue SW, Washington, DC 20591; telephone: (202) 267-8783. The Order is also available for inspection at the National Archives and Records Administration (NARA). For information on the availability of FAA Order JO 7400.11F at NARA, email: fr.inspection@nara.gov or go to https://www.archives.gov/federal-register/cfr/ibr-locations.html.

FOR FURTHER INFORMATION CONTACT: Colby Abbott, Rules and Regulations Group, Policy Directorate, Federal Aviation Administration, 800 Independence Avenue SW, Washington, DC 20591; telephone: (202) 267-8783.

SUPPLEMENTARY INFORMATION:

Authority for This Rulemaking

The FAA's authority to issue rules regarding aviation safety is found in Title 49 of the United States Code. Subtitle I, Section 106 describes the authority of the FAA Administrator. Subtitle VII, Aviation Programs, describes in more detail the scope of the agency's authority. This rulemaking is promulgated under the authority described in Subtitle VII, Part A, Subpart I, Section 40103. Under that section, the FAA is charged with prescribing regulations to assign the use of the airspace necessary to ensure the safety of aircraft and the efficient use of airspace. This regulation is within the scope of that authority as it modifies the route structure as necessary to preserve the safe and efficient flow of air traffic within the National Airspace System.

History

The FAA published a notice of proposed rulemaking (NPRM) for Docket No. FAA-2021-0276 in the Federal Register (86 FR 21243; April 22, 2021), amending Jet Route J-181 and VHF Omnidirectional Range (VOR) Federal airways V-13, V-14, V-15, and V-307; establishing Area Navigation (RNAV) routes T-411 and T-413; and removing VOR Federal airway V-506. The proposed amendment, establishment, and revocation actions were due to the planned decommissioning of the VOR portion of the Neosho, MO, VOR/DME NAVAID. Interested parties were invited to participate in this rulemaking effort by submitting written comments on the proposal. No comments were received.

Prior to the NPRM, the FAA published a rule for Docket No. FAA-2020-1146 in the Federal Register (86 FR 19129; April 13, 2021), amending V-14 by removing the airway segment between the Buffalo, NY, VOR/DME and the Norwich, CT, VOR/DME. That airway amendment was effective June 17, 2021, and is included in this rule.

Jet Routes are published in paragraph 2004, VOR Federal airways are published in paragraph 6010(a), and RNAV T-routes are published in paragraph 6011 of FAA Order JO 7400.11F, dated August 10, 2021, and effective September 15, 2021, which is incorporated by reference in 14 CFR 71.1. The ATS routes listed in this document would be published subsequently in the Order.

Availability and Summary of Documents for Incorporation by Reference

This document amends FAA Order JO 7400.11F, Airspace Designations and Reporting Points, dated August 10, 2021, and effective September 15, 2021. FAA Order JO 7400.11F is publicly available as listed in the ADDRESSES section of this document. FAA Order JO 7400.11F lists Class A, B, C, D, and E airspace areas, air traffic service routes, and reporting points.

Differences From the Proposal

In the NPRM, the FAA proposed to establish RNAV route T-413 with the ISTIQ, NE, waypoint (WP) included as a route point listed between the Grand Island, NE, VOR/DME and LLUKY, NE, WP route points. After further review of the proposed T-413 route, the FAA determined that the ISTIQ WP falls on a straight segment of the route between the Grand Island VOR/DME and LLUKY WP, and it is not necessary in the route description. Removing the ISTIQ, NE, WP from the proposed T-413 route does not affect the alignment of the route; therefore, the ISTIQ, NE, WP is removed from the T-413 route description in this rule.

The ISTIQ, NE, WP will still be established, but not as a route point included in the T-413 route description.

The Rule

The FAA is amending 14 CFR part 71 to modify Jet Route J-181 and VOR Federal airways V-13, V-14, V-15, and V-307; establish RNAV routes T-411 and T-413; and remove VOR Federal airway V-506 due to the planned decommissioning of the Neosho, MO, VOR. The ATS route actions are described below.

J-181: J-181 extends between the Ranger, TX, VOR/Tactical Air Navigation (VORTAC) and the Bradford, IL, VORTAC. The route segment between the Okmulgee, OK, VOR/DME and the Hallsville, IL, VORTAC is removed. The unaffected portions of the existing route remain as charted.

V-13: V-13 extends between the McAllen, TX, VOR/DME and the Farmington, MN, VORTAC; and between the Duluth, MN, VORTAC and the Thunder Bay, ON, Canada VOR/DME. The airspace within Canada is excluded. The airway segment between the Razorback, AR, VORTAC and the Butler, MO, VORTAC is removed. The unaffected portions of the existing airway remain as charted.

V-14: V-14 extends between the Chisum, NM, VORTAC and the Flag City, OH, VORTAC. The airway segment between the Tulsa, OK, VORTAC and the Springfield, MO, VORTAC is removed. The unaffected portions of the existing airway remain as charted.

V-15: V-15 extends between the Navasota, TX, VOR/DME and the Bonham, TX, VORTAC; between the Okmulgee, OK, VOR/DME and the Neosho, MO, VOR/DME; and between the Aberdeen, SD, VOR/DME and the Minot, ND, VOR/DME. The airway segment between the Okmulgee, OK, VOR/DME and the Neosho, MO, VOR/DME is removed. The unaffected portions of the existing airway remain as charted.

V-307: V-307 extends between the Harrison, AR, VOR/DME and the Omaha, IA, VORTAC. The airway segment between the Harrison, AR, VOR/DME and the Oswego, KS, VOR/DME is removed. The unaffected portions of the existing airway remain as charted.

V-506: V-506 extends between the Tulsa, OK, VORTAC and the Springfield, MO, VORTAC. The airway is removed in its entirety.

T-411: T-411 is a new route that extends between the Razorback, AR, VORTAC and the Lincoln, NE, VORTAC. This T-route mitigates the loss of the V-13 airway segment removed and provides RNAV routing from the Fayetteville, AR, area northward to the Lincoln, NE, area.

T-413: T-413 is a new route that extends between the Razorback, AR, VORTAC and the Pierre, SD, VORTAC. This T-route mitigates the absence of Federal airways between the Neosho, MO, VOR/DME and the Salina, KS, VORTAC, and provides RNAV routing from the Fayetteville, AR, area, northwestward to the Pierre, SD, area.

All NAVAID radials listed in the ATS route descriptions below are unchanged and stated in True degrees.

FAA Order 7400.11, Airspace Designations and Reporting Points, is published yearly and effective on September 15.

Regulatory Notices and Analyses

The FAA has determined that this regulation only involves an established body of technical regulations for which frequent and routine amendments are necessary to keep them operationally current. It, therefore: (1) Is not a “significant regulatory action” under Executive Order 12866; (2) is not a “significant rule” under Department of Transportation (DOT) Regulatory Policies and Procedures (44 FR 11034; February 26, 1979); and (3) does not warrant preparation of a regulatory evaluation as the anticipated impact is so minimal. Since this is a routine matter that will only affect air traffic procedures and air navigation, it is certified that this rule, when promulgated, will not have a significant economic impact on a substantial number of small entities under the criteria of the Regulatory Flexibility Act.

Environmental Review

The FAA has determined that this action of modifying jet route J-181 and VOR Federal airways V-13, V-14, V-15 and V-307; establishing RNAV routes T-411 and T-413; and removing VOR Federal airway V-506, due to the planned decommissioning of the VOR portion of the Neosho, MO, VOR/DME NAVAID, qualifies for categorical exclusion under the National Environmental Policy Act (42 U.S.C. 4321 et seq.) and its implementing regulations at 40 CFR part 1500, and in accordance with FAA Order 1050.1F, Environmental Impacts: Policies and Procedures, paragraph 5-6.5a, which categorically excludes from further environmental impact review rulemaking actions that designate or modify classes of airspace areas, airways, routes, and reporting points (see 14 CFR part 71, Designation of Class A, B, C, D, and E Airspace Areas; Air Traffic Service Routes; and Reporting Points). As such, this action is not expected to result in any potentially significant environmental impacts. In accordance with FAA Order 1050.1F, paragraph 5-2 regarding Extraordinary Circumstances, the FAA has reviewed this action for factors and circumstances in which a normally categorically excluded action may have a significant environmental impact requiring further analysis. The FAA has determined that no extraordinary circumstances exist that warrant preparation of an environmental assessment or environmental impact study.

List of Subjects in 14 CFR Part 71

Airspace, Incorporation by reference, Navigation (air).

The Amendment

In consideration of the foregoing, the Federal Aviation Administration amends 14 CFR part 71 as follows:

PART 71—DESIGNATION OF CLASS A, B, C, D, AND E AIRSPACE AREAS; AIR TRAFFIC SERVICE ROUTES; AND REPORTING POINTS

1. The authority citation for part 71 continues to read as follows:

Authority: 49 U.S.C. 106(f), 106(g); 40103, 40113, 40120; E.O. 10854, 24 FR 9565, 3 CFR, 1959-1963 Comp., p. 389.

§ 71.1 [Amended]

2. The incorporation by reference in 14 CFR 71.1 of FAA Order JO 7400.11F, Airspace Designations and Reporting Points, dated August 10, 2021, and effective September 15, 2021, is amended as follows:

Paragraph 2004 Jet Routes.

* * * * *

J-181 [Amended]

From Ranger, TX; to Okmulgee, OK. From Hallsville, MO; INT Hallsville 053° and Bradford, IL, 219° radials; to Bradford.

* * * * *

Paragraph 6010(a) Domestic VOR Federal Airways.

* * * * *

V-13 [Amended]

From McAllen, TX; INT McAllen 060° radial and Corpus Christi, TX, 178° radials; Corpus Christi; INT Corpus Christi 039° and Palacios, TX, 241° radials; Palacios; Humble, TX; Lufkin, TX; Belcher, LA; Texarkana, AR; Rich Mountain, OK; Fort Smith, AR; INT Fort Smith 006° and Razorback, AR, 190° radials; to Razorback. From Butler, MO; Napoleon, MO; Lamoni, IA; Des Moines, IA; Mason City, IA; to Farmington, MN. From Duluth, MN; to Thunder Bay, ON, Canada. The airspace outside the United States is excluded.

* * * * *

V-14 [Amended]

From Chisum, NM; Lubbock, TX; Childress, TX; Hobart, OK; Will Rogers, OK; INT Will Rogers 052° and Tulsa, OK, 246° radials; to Tulsa. From Springfield, MO; Vichy, MO; INT Vichy 067° and St. Louis, MO, 225° radials; St. Louis; Vandalia, IL; Terre Haute, IN; Brickyard, IN; Muncie, IN; to Flag City, OH.

* * * * *

V-15 [Amended]

From Navasota, TX; College Station, TX; Waco, TX; Cedar Creek, TX; to Bonham, TX. From Aberdeen, SD; Bismarck, ND; to Minot, ND.

* * * * *

V-307 [Amended]

From Oswego, KS; Chanute, KS; Emporia, KS; INT Emporia 336° and Pawnee City, NE, 194° radials; Pawnee City; to Omaha, IA.

* * * * *

V-506 [Removed]

* * * * *

Paragraph 6011 United States Area Navigation Routes.

* * * * *

T-411 Razorback, AR (RZC) to Lincoln, NE (LNK) [New]
Razorback, AR (RZC) | VORTAC | (Lat. 36°14′47.14″ N, long. 094°07′17.01″ W)
DROOP, MO | FIX | (Lat. 37°06′09.12″ N, long. 094°26′42.39″ W)
Butler, MO (BUM) | VORTAC | (Lat. 38°16′19.49″ N, long. 094°29′17.74″ W)
Topeka, KS (TOP) | VORTAC | (Lat. 39°08′13.48″ N, long. 095°32′57.01″ W)
Lincoln, NE (LNK) | VORTAC | (Lat. 40°55′25.66″ N, long. 096°44′31.23″ W)
T-413 Razorback, AR (RZC) to Pierre, SD (PIR) [New]
Razorback, AR (RZC) | VORTAC | (Lat. 36°14′47.14″ N, long. 094°07′17.01″ W)
DROOP, MO | FIX | (Lat. 37°06′09.12″ N, long. 094°26′42.39″ W)
Emporia, KS (EMP) | VORTAC | (Lat. 38°17′28.11″ N, long. 096°08′17.22″ W)
Salina, KS (SLN) | VORTAC | (Lat. 38°55′30.50″ N, long. 097°37′16.80″ W)
Grand Island, NE (GRI) | VOR/DME | (Lat. 40°59′02.50″ N, long. 098°18′53.20″ W)
LLUKY, NE | WP | (Lat. 42°29′20.26″ N, long. 098°38′11.44″ W)
MMINI, NE | WP | (Lat. 42°53′07.44″ N, long. 099°37′35.54″ W)
JMBAG, SD | WP | (Lat. 43°30′45.88″ N, long. 100°08′45.77″ W)
Pierre, SD (PIR) | VORTAC | (Lat. 44°23′40.40″ N, long. 100°09′46.11″ W)

Issued in Washington, DC, on January 6, 2022.
Michael R. Beckles,
Acting Manager, Rules and Regulations Group.

[FR Doc. 2022-00458 Filed 1-13-22; 8:45 am]

BILLING CODE 4910-13-P